ENVIRONMENTAL PROTECTION AGENCY

[OW-2003-0073; FRL-7597-2]

Agency Information Collection Activities: Proposed Collection; Comment Request; National Pollutant Discharge Elimination System (NPDES) Compliance Assessment/ Certification Information, EPA ICR Number 1427.07, OMB Control Number 2040-0110

AGENCY: Environmental Protection Agency (EPA).

ACTION: Notice.

SUMMARY: In compliance with the Paperwork Reduction Act (44 U.S.C. 3501 et seq.), this document announces that EPA is planning to submit a continuing Information Collection Request (ICR) to the Office of Management and Budget (OMB). This is a request to renew an existing approved collection. This ICR is scheduled to expire on February 29, 2004. Before submitting the ICR to OMB for review and approval, EPA is soliciting comments on specific aspects of the proposed information collection as described below.

DATES: Comments must be submitted on or before February 9, 2004.

ADDRESSES: Submit your comments, referencing docket ID number OW-2003-0073, to EPA online using EDOCKET (our preferred method), by e-mail to OW-Docket@epa.gov, or by mail to: EPA Docket Center, Environmental Protection Agency, Water Docket (Mail Code 4101T), 1200 Pennsylvania Ave., NW., Washington, DC 20460.

FOR FURTHER INFORMATION CONTACT: Jack Faulk, Environmental Protection Agency, 1200 Pennsylvania Ave., NW., Mail Code 4203M, Washington, DC 20460; telephone number: 202-564-0768; fax number: 202-564-6431; e-mail address: faulk.jack@epa.gov.

SUPPLEMENTARY INFORMATION: EPA has established a public docket for this ICR under Docket ID number OW-2003-0073, which is available for public viewing at the Water Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Water Docket is (202) 566-2426. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov/edocket.

Affected entities: Entities potentially affected by this action are those which are issued NPDES permits for the discharge of domestic wastewater, industrial wastewater, and storm water, and for the use and disposal of sewage sludge. In addition, states and territories authorized to administer the NPDES program are also affected.

Title: National Pollutant Discharge Elimination System (NPDES) Compliance Assessment/Certification Information, EPA ICR Number 1427.07, OMB Control Number 2040-0110.

Abstract: Pollutant discharge limits in a NPDES permit are designed to be protective of the environment and the public. Permitting authorities must assess whether the permittee is complying with these discharge limits on a consistent basis. Compliance is assessed by reviewing records, compliance schedule reports, and noncompliance reports for a bypass, upset, or maximum daily limit violations. Permittees must maintain such records, meet compliance schedules, and report violations as mandated in 40 CFR parts 122 and 501. The information that is collected can lead the permitting authority to follow through with informal discussions with the permittee (telephone and/or letters), permit modification, or enforcement action.

Also, consistent with past practice, this ICR incorporates burden from one ICR specific to EPA's effluent limitations guidelines development program that includes NPDES compliance assessment/certification activities. Specifically, the burden and costs associated with the ICR: Best Management Practices Alternatives, Effluent Limitations Guidelines and Standards, Oil and Gas Extraction Point Source Category (40 CFR part 435), EPA ICR No. 1953.02, OMB Control No. 2040-0230, is incorporated into this ICR.

Note that six additional effluent limitations guidelines development ICRs are set to expire in the next three years prior to the next renewal of this Compliance Assessment/Certification ICR. The burden associated with those six ICRs will be incorporated into the Compliance Assessment/Certification ICR as part of the renewal process for those six separate ICRs. The six ICRs include:

1. Milestone Plans for the Bleached Papergrade Kraft and Soda Subcategory of the Pulp, Paper, and Paperboard Point Source Category (40 CFR part 430), EPA ICR No. 1877.02, OMB Control No. 2040-0202;

2. Best Management Practices (BMPs) for Bleached Papergrade Kraft and Soda Subcategory and the Papergrade Kraft Sulfite Subcategory of the Pulp, Paper, and Paperboard Point Source Category (40 CFR part 430), EPA ICR No. 1829.02, OMB Control No. 2040-0207;

3. Pollution Prevention Compliance Alternative; Transportation Equipment Cleaning (TEC) Point Source Category (40 CFR part 442), EPA ICR No. 2018.01, OMB Control No. 2040-0235;

4. Baseline Standards and Best Management Practices for the Coal Mining Point Source Category (40 CFR part 434)—Coal Remining Subcategory and Western Alkaline Coal Mining Subcategory, EPA ICR No. 1944.02, OMB Control No. 2040-0239;

5. Certification in Lieu of Chloroform Minimum Monitoring Requirements for Direct and Indirect Discharging Mills in the Bleached Papergrade Kraft and Soda Subcategory of the Pulp, Paper and Paperboard Manufacturing Category (40 CFR part 430), EPA ICR No. 2015.01, OMB Control No. 2040-0242; and

6. Minimum Monitoring Requirements for Direct and Indirect Discharging Mills in the Bleached Papergrade Kraft and Soda Subcategory and the Papergrade Sulfite Subcategory of the Pulp, Paper and Paperboard Manufacturing Category (40 CFR part 430), EPA ICR No. 1878.01, OMB Control No. 2040-0243.

An agency may not conduct or sponsor, and a person is not required to respond to, a collection of information unless it displays a currently valid OMB control number. The OMB control numbers for EPA's regulations are listed in 40 CFR part 9. The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: Based on the information collection requirements contained in the existing ICR, the information collection for compliance assessment and certification activities will involve an estimated 16,500 reporting respondents per year with 2.15 total annual average responses per respondent and 4.15 hours per response for a total of 147,207 hours. In addition, EPA estimates 304,739 recordkeeping respondents per year and 3.86 hours per recordkeeper for a total of 1,166,012 hours. This results in an annual respondent burden of 1,313,219 hours and an annual cost of $31,025,598. States and U.S. territories are also expected to incur a burden and cost associated with this ICR. Specifically, EPA estimates an average annual burden for these respondents of 51,089 hours at a cost of $1,472,488. The total annual burden and cost to respondents, recordkeepers, and government (excluding Federal government) is estimated to be 1,375,308 hours and $32,498,086.

The burden and cost estimate for the additional ICR, namely Best Management Practices Alternatives, Effluent Limitations Guidelines and Standards, Oil and Gas Extraction Point Source Category (40 CFR part 435), EPA ICR No. 1953.02, OMB Control No. 2040-0230 are estimated as follows (as documented in the original rule-related ICR for this regulation): total burden hours for the 67 respondents are 47,168 annually at a cost of $1,200,138. This includes both reporting and recordkeeping activities.

Burden and costs for the additional six ICRs will be incorporated into this ICR as these six ICRs come up for renewal. The current number of annual responses and approved burden hours are provided below.

OMB Control No. | Annual responses | Annual hours
2040-0202 | 29 | 1,418
2040-0207 | 130 | 60,909
2040-0235 | 79 | 19,144
2040-0239 | 93 | 9,261
2040-0242 | 86 | 480
2040-0243 | 104 | 36,858

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: December 3, 2003.
James A. Hanlon,
Director, Office of Wastewater Management.

[FR Doc. 03-30518 Filed 12-8-03; 8:45 am]

BILLING CODE 6560-50-P